DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Quarterly Census of Employment and Wages Business Supplement.” A copy of the proposed information collection request can be obtained by contacting the individual listed below in the Addresses section of this notice.

DATES: Written comments must be submitted to the office listed in the Addresses section of this notice on or before March 11, 2024.

ADDRESSES: Send comments to Carol Rowan, BLS Clearance Officer, Division of Management Systems, Bureau of Labor Statistics, Room G225, 2 Massachusetts Avenue NE, Washington, DC 20212. Written comments also may be transmitted by email to BLS_PRA_Public@bls.gov.

FOR FURTHER INFORMATION CONTACT: Carol Rowan, BLS Clearance Officer, at 202-691-7628 (this is not a toll free number). (See ADDRESSES section.)

SUPPLEMENTARY INFORMATION:

I. Background

The Quarterly Census of Employment and Wages Business Supplement (QBS) is a versatile collection instrument designed to capture information on the US economy quickly and efficiently. The QBS collection is designed to incorporate new questionnaires as the need arises to allow BLS to collect and publish information quickly so that stakeholders and data users can understand the impact of specific events, or economic issues of relevance, on the US economy.

The BLS will primarily use the Annual Refiling Survey (ARS) as a platform for conducting the QBS. Each year, the BLS Quarterly Census of Employment and Wages (QCEW) Program conducts the ARS by reaching out to approximately 1.5 million establishments requesting verification of their main business activity, and their mailing and physical location addresses. The fully web-based ARS allows for an accelerated timeframe for collection and provides a low-cost platform for conducting the quick, short surveys of the QBS. The QBSs accompanying the ARS have little data collection overhead, leveraging the respondent contact process undertaken as part of the production ARS. QBS respondents already logged into the ARS secure website are directed to a QBS and asked to answer a limited number of additional survey questions after completing the ARS. QBS respondents that are not in the ARS are solicited using established contact methods (email and/or printed letters) and directed to a stand-alone interface to access and answer the QBS questions online.

II. Current Action

Office of Management and Budget clearance is being sought for a revision of the QCEW Business Supplement (QBS).

The QBS is designed to encourage a fast response and minimize respondent burden on the public by limiting the number of questions on each survey and by asking questions that respondents should be able to answer without research or referring to records. In this manner, BLS can provide information that is needed quickly and is not collected elsewhere. The QBS will incorporate new questionnaires as the need for data arises, as frequently as twice a year. The BLS plans to conduct multiple small surveys under the QBS clearance. The 2024 survey will focus on establishments' telework policies and practices, recent experiences in hiring, and how they advertise vacancies. These questions were previously asked in the 2022 QBS collected under this clearance (the 2022 Business Response Survey). Asking these questions again, a full two years later, will provide an understanding of how these business operations have changed.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: QCEW Business Supplement.

OMB Number: 1220-0198.

Type of Review: Revision of a currently approved collection.

Affected Public: Business or other for-profit, not-for-profit institutions, and farms.

Total Number of Respondents: 80,000.

Frequency: Once.

Total Responses: 80,000.

Average Time per Response: 5 minutes.

Estimated Total Burden Hours: 6,667 hours.

Comments submitted in response to this notice will be summarized and/or included in the request for Office of Management and Budget approval of the information collection request; they also will become a matter of public record.

Signed at Washington, DC, on January 5, 2024.
Eric Molina,
Chief, Division of Management Systems, Branch of Policy Analysis.

[FR Doc. 2024-00374 Filed 1-10-24; 8:45 am]

BILLING CODE 4510-24-P